DEPARTMENT OF ENERGY

Federal Energy Regulatory Commission

[Docket Nos. RP93-187-017, RP93-62-015 and CP88-546-010]

Equitrans, L.P.; Notice of Refund Report

March 7, 2000.

Take notice that on March 1, 2000, Equitrans, L.P. (Equitrans), tendered for filing its Refund Report pursuant to Article II, Section 2 of the Stipulation and Agreement (Settlement) filed on July 31, 1995 in the above reference dockets, and approved by the Commission on September 28, 1995.

Equitrans states that the purpose of this filing is to report the refunds made to its customers on February 29, 2000 for the difference between the amount collected during the four-year surcharge period for well plugging and abandonment and the $2.6 million Equitrans was authorized to collect. The total amount refunded is $55,882.95, which includes interest computed in accordance with Section 154.501 of the Commission's Regulations. The refunds were allocated based on the same percentages used in collecting the surcharge from each customer over the four-year period.

Any person desiring to protest said filing should file a protest with the Federal Energy Regulatory Commission, 888 First Street, N.E., Washington, D.C. 20426, in accordance with Section 385.211 of the Commission's Rules and Regulations. All such protests must be filed on or before March 14, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-5976 Filed 3-10-00; 8:45 am]

BILLING CODE 6717-01-M